SECURITIES AND EXCHANGE COMMISSION

[File No. 1-15237]

Issuer Delisting; Notice of Application To Withdraw From Listing and Registration; (OTR Express, Inc., Common Stock, $.01 Par Value)

May 23, 2001.

OTR Express, Inc., a Kansas corporation (“Issuer”), has filed an application with the Securities and Exchange Commission (“Commission”), pursuant to section 12(d) of the Securities Exchange Act of 1934 (“Act”) ¹ and Rule 12d2-2(d) thereunder,² to withdraw its Common Stock, $.01 par value (“Security”), from listing and registration on the American Stock Exchange (“Amex”).

¹ 15 U.S.C. 78l(d).

² 17 CFR 240.12d2-2(d).

The Issuer has stated in its application that it has met the requirements of Amex Rule 18 by complying with all applicable laws in effect in the State of Kansas, in which it is incorporated, and with the rules the Amex governing an issuer's voluntary withdrawal of a security from listing and registration. The Amex has in turn informed the Issuer that it does not object to the proposed withdrawal of the Issuer's Security from listing and registration on the Exchange.

The Board of Directors of the Issuer approved a resolution on May 9, 2001 to seek withdrawal of the Issuer's Security from listing on the Amex. In making the decision to withdraw the Security from listing on the Exchange, the Issuer considered its non-compliance with the Amex maintenance standards concerning the aggregate market value of shares publicly held and the Security's low selling price. The Issuer represents that it expects to file a Form 15 with the Commission to formally suspend its duties to file reports under section 13 ³ and 15(d) ⁴ of the Act.

³ 15 U.S.C. 78m.

⁴ 15 U.S.C. 78o(d).

Any interested person may, on or before June 13, 2001, submit by letter to the Secretary of the Securities and Exchange Commission, 450 Fifth Street, NW., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 01-13528 Filed 5-29-01; 8:45 am]

BILLING CODE 8010-01-M